DEPARTMENT OF HOMELAND SECURITY

Federal Emergency Management Agency

[Docket ID: FEMA-2013-0038; OMB No. 1660-0030]

Agency Information Collection Activities: Submission for OMB Review; Comment Request; Request for the Site Inspection, Landowners Authorization/Ingress/Egress Agreement.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before January 13, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Request for the Site Inspection, Landowners Authorization/Ingress/Egress Agreement.

Type of Information Collection: Extension, without change, of a currently approved information collection.

OMB Number: 1660-0030.

Form Titles and Numbers: FEMA Form 010-0-09, Request for the Site Inspection; FEMA Form 010-0-10, Landowner's Authorization Ingress-Egress Agreement.

Abstract: FEMA's Individual and Households Program provides temporary housing to eligible survivors of federally declared disasters in the form of financial payments for rent assistance. When eligible survivors are unable to make use of rental assistance due to a lack of available housing resources, FEMA may provide direct assistance. Manufactured housing units are a form of direct assistance that FEMA may provide. This information is required to determine whether the infrastructure of a site identified by the survivor supports the installation of the unit. This collection also obtains permission for FEMA and its contractors to place the unit on the property. The property owner certifies that they will not obstruct access to the unit nor will they have a lien placed against the unit for their own debts, thus ensuring they will maintain the property so that FEMA can remove the unit when required.

Affected Public: Individuals or households.

Estimated Number of Respondents: 5,000.

Estimated Total Annual Burden Hours: 1,700 hours.

Estimated Cost: The estimated annual cost to respondents for the hour burden is $47,600.00. There are no annual costs to respondents operations and maintenance costs for technical services. There is no annual start-up or capital costs. The cost to the Federal Government is $3,229,500.00.

Dated: December 4, 2013.
Charlene D. Myrthil,
Director, Records Management Division, Mission Support Bureau, Federal Emergency Management Agency, Department of Homeland Security.

[FR Doc. 2013-29654 Filed 12-11-13; 8:45 am]

BILLING CODE 9111-23-P